DEPARTMENT OF EDUCATION

[Docket No.: ED-2024-SCC-0022]

Agency Information Collection Activities; Comment Request; The College Assistance Migrant Program (CAMP) Annual Performance Report (APR)

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before April 8, 2024.

ADDRESSES: To access and review all the documents related to the information collection listed in this notice, please use http://www.regulations.gov by searching the Docket ID number ED-2024-SCC-0022. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Andrew Brake, (202) 453-6136.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The College Assistance Migrant Program (CAMP) Annual Performance Report (APR).

OMB Control Number: 1810-0727.

Type of Review: Revision of a currently approved ICR.

Respondents/Affected Public: State, Local, and Tribal Governments.

Total Estimated Number of Annual Responses: 60.

Total Estimated Number of Annual Burden Hours: 1,380.

Abstract: This information collection request revises the 1810-0727 College Assistance Migrant Program (CAMP) Annual Performance Report (APR) collection. These changes include language replacements, removals, and additions intended to ensure compliance with 34 CFR 75.110 and OMB Circular A-110, improve clarity of instructions and data collection, and remove duplicative language. Substantive changes include the addition of a data element related to mode of instruction and the removal of a data element related to the SAT and ACT. For a complete list of revisions, please see the attached summary, which will be shared with the public and Office of Management and Budget (OMB) as a supplemental document.

The Office of Migrant Education (OME) collects information for the CAMP, which is authorized under Title IV, Section 418A of the Higher Education Act of 1965, as amended by Section 408 of the Higher Education Opportunity Act (HEOA)(20 U.S.C. 1070d-2) (special programs for students whose families are engaged in migrant and seasonal farmwork), and 2 CFR 200.328, which requires that recipients of discretionary grants submit an APR to best inform improvements in program outcomes and productivity.

Although the Education Department continues to use the generic 524B, the OME requests continued use of a customized APR that goes beyond the generic 524B APR to facilitate the collection of more standardized and comprehensive data to inform performance measure indicators, to improve the overall quality of data collected, and to increase the quality of data that can be used to inform policy decisions.

Dated: February 1, 2024.
Kun Mullan,
PRA Coordinator, Strategic Collections and Clearance, Governance and Strategy Division, Office of Chief Data Officer, Office of Planning, Evaluation and Policy Development.

[FR Doc. 2024-02408 Filed 2-6-24; 8:45 am]

BILLING CODE 4000-01-P